DEPARTMENT OF JUSTICE

Parole Commission

Record of Vote of Meeting Closure (Public Law 94-409) (5 U.S.C. 552b)

I, Edward F. Reilly, Jr., Chairman of the United States Parole Commission, was present at a meeting of said Commission, which started at approximately 5:30 p.m. on Tuesday, August 2, 2005, at the U.S. Parole Commission, 5550 Friendship Boulevard, 4th Floor, Chevy Chase, Maryland 20815. The purpose of the meeting was to discuss the procedure to be followed for review of one case upon request of the Attorney General as provided in 18 U.S.C. 4215(c).

Public announcement further describing the subject matter of the meeting and certifications of General Counsel that this meeting may be closed by vote of the Commissioner present were submitted to the Commissioners prior to the conduct of any other business. Upon motion duly made, seconded, and carried, the following Commissioners voted that the meeting be closed: Edward F. Reilly, Jr., Cranston J. Mitchell, and Patricia Cushwa.

In Witness Whereof, I make this official record of the vote taken to close this meeting and authorize this record to be made available to the public.

Dated: August 3, 2005.
Edward F. Reilly, Jr.,
Chairman, U.S. Parole Commission.

[FR Doc. 05-15889 Filed 8-8-05; 10:21 am]

BILLING CODE 4410-01-M